DEPARTMENT OF TRANSPORTATION

National Highway Traffic Safety Administration

[Docket No. NHTSA-2025-0018]

Agency Information Collection Activities; Submission to the Office of Management and Budget for Review and Approval; Request for Comment; National Driver Register

AGENCY: National Highway Traffic Safety Administration (NHTSA), Department of Transportation (DOT).

ACTION: Notice and request for comments on an extension of a previously approved information collection.

SUMMARY: In compliance with the Paperwork Reduction Act of 1995 (PRA), this notice announces that the Information Collection Request (ICR) summarized below will be submitted to the Office of Management and Budget (OMB) for review and approval. The ICR describes the nature of the information collection and its expected burden. This document describes a currently approved collection of information on NHTSA's National Driver Register for which NHTSA intends to seek approval from OMB for extension. A Federal Register Notice with a 60-day comment period soliciting comments on the following information collection was published on March 28, 2025. No comments were received.

DATES: Comments must be submitted on or before September 10, 2025.

ADDRESSES: Written comments and recommendations for the proposed information collection, including suggestions for reducing burden, should be submitted to the Office of Management and Budget at www.reginfo.gov/public/do/PRAMain. To find this information collection, select “Currently under Review—Open for Public Comment” or use the search function.

FOR FURTHER INFORMATION CONTACT: For additional information or access to background documents, contact Miriam Chege, Office of Traffic Records and Analysis, NSA-200, (202) 366-4800, National Highway Traffic Safety Administration, U.S. Department of Transportation, 1200 New Jersey Avenue SE, Washington, DC 20590. Please identify the relevant collection of information by referring to its OMB Control Number.

SUPPLEMENTARY INFORMATION: Under the PRA (44 U.S.C. 3501 et seq.), a federal agency must receive approval from the Office of Management and Budget (OMB) before it collects certain information from the public and a person is not required to respond to a collection of information by a federal agency unless the collection displays a valid OMB control number. In compliance with these requirements, this notice announces that the following information collection request will be submitted OMB.

Title: National Driver Register (NDR).

OMB Control Number: 2127-0001.

Form Number: This collection of information is electronically submitted to NHTSA. There are no standard forms.

Type of Request: Extension of a currently approved information collection.

Type of Review Requested: Regular.

Length of Approval Requested: Three years from date of approval.

Summary of the Collection of Information: The National Driver Register Act of 1982, Title 49 U.S.C., Subtitle VI, Part A, Chapter 303 (as amended) requires the Secretary of Transportation (NHTSA by delegation) to maintain a National Driver Register (NDR) to assist the State chief driver licensing officials in the exchange of information about the motor vehicle driving records of individuals. The chief driver licensing official of a participating State must report to the NDR identification information regarding any individual who is denied a motor vehicle operator's license for cause, whose motor vehicle operator's license is withdrawn for cause, or who is convicted of certain serious motor vehicle related offenses (specified at 49 U.S.C. 30304) or comparable offenses. (23 U.S.C. 30304(a); 23 CFR 1327, Appendix A). Participating States are required to submit an inquiry to the NDR for all driver's license applicants before issuing or renewing a license. In addition, other authorized users (e.g., the Federal Aviation Administration) have access to system information for specified statutory purposes and submit inquiries to participating States or if they are a Federal agency may submit the inquiries directly to the NDR. All 50 States and the District of Columbia participate in the NDR.

The NDR maintains the computerized database known as the Problem Driver Pointer System (PDPS) which contains information on individuals whose privilege to operate a motor vehicle has been revoked, suspended, canceled, or denied or who have been convicted of serious traffic-related offenses. The records maintained at the NDR consist of identification information including name, date of birth, sex, driver license number, and reporting State which is collected daily.

States use interactive communication for their routine transactions with the NDR, which allows them to submit the required information automatically at the same time the individual's information is entered into the State's system. Specifically, when an individual applies for a driver's license, an inquiry is automatically transmitted to the NDR when the driver's application is entered into the State's system. Likewise, when a state records license actions that have been taken against an individual that require reporting to the NDR, a transaction submitting the individual's identification information is automatically generated and transmitted to the NDR.

Description of the Need for the Information and Proposed Use of the Information: The purpose of the information collection is to ensure that States have access to critical safety information for purposes of driver licensing, driver improvement, and transportation safety. The NDR was established to serve as the central repository of information on problem drivers to promote information sharing among States, eliminating the need for States to contact each of the other 50 jurisdictions, and the District of Columbia individually. The information collected is used by State driver licensing agencies to identify problem drivers prior to issuing a driver's license, to develop and implement driver improvement programs, and to enhance transportation safety generally. The following individuals and groups are also authorized to receive information upon inquiry to a State driver licensing agency for transportation safety purposes:

a. National Transportation Safety Board and Federal Highway Administration in connection with accident investigations;

b. Employers or prospective employers of motor vehicle operators;

c. Federal Aviation Administration regarding applications for or holders of airman's certificates;

d. Employers or prospective employers of locomotive operators;

e. U.S. Coast Guard regarding applicants for or holders of licenses, certificates of registry, or merchant mariner's documents, and for Coast Guard crew members;

f. Federal departments or agencies that issue motor vehicle operator's licenses regarding motor vehicle operator license applications;

g. Employers of pilots (prospective employers may request through approved organizations)

h. Individuals who have or are seeking access to national security information for purposes under E.O. 12968 or who are being investigated for Federal employment under E.O. 10450;

i. Individuals requesting information about themselves;

j. Federal departments and agencies authorized to received information regarding an individual; and

k. Federal Motor Carrier Safety Administration regarding safety investigations within its jurisdiction.

60-Day Notice: A Federal Register notice with a 60-day comment period soliciting public comments on the following information collection was published on March 28, 2025 (90 FR 14181). No comments were received.

Affected Public: Participating States.

Type of Request: Extension of Clearance.

Estimated Number of Respondents: The number of respondents is 51—all 50 States and the District of Columbia.

Frequency: Daily.

Estimated Total Annual Burden Hours: 13,763.

States use routine electronic interactive communication for transactions with the NDR, which allows the States to submit the required information automatically at the same time the information is entered into a state's own system. Although States are required to report and check for a problem driver when issuing a driver's license, no burden hours are incurred for these queries for this information collection because the State's computer systems automatically transmit the information that is entered as a part of normal business practice. Therefore, the estimated hour burden is based on the States' PDPS IT infrastructure maintenance and States' participation in the optional Clean File process.

To estimate the annual maintenance and infrastructure burden to report and check for problem drivers, NDR asked a small sample of States for information about their annual burden. NDR received formatted estimates from two States which included the maintenance and infrastructure labor hours and cost used to send and maintain information to PDPS. Together, the burden from these two States was 530 hours and the associated labor cost was $17,400. Using these estimates, NHTSA calculates an average of 265 hours per State, with an annual labor cost of $8,700. There are 51 respondents per year (the 50 States and the District of Columbia). Therefore, total annual burden hours for maintenance and infrastructure is estimated to be 13,515 hours (51 respondents × 265 hours). The total annual maintenance and infrastructure labor cost per year is estimated to be $443,700 ($8,700 × 51).

To ensure that the information contained in the NDR is accurate, States sometimes submit a “clean file”, which is a confirmation of the drivers that have been identified on the system by the State of Record. NHTSA estimates that an average of 31 clean files will be submitted annually by States. States use Secure File Transfer Protocol (SFTP) to submit this information, and NHTSA estimates it takes an IT specialist 8 hours to prepare and run the data. NHTSA estimates the cost for IT personnel burden hours using the Bureau of Labor Statistics' mean wage estimate for Software and Web Developers, Programmers, and Testers (Standard Occupational Classification #15-1250, May 2024) of $59.02.¹ The Bureau of Labor Statistics estimates that for State and local government workers, wages represent 61.9% of total compensation.² Therefore, the total hourly cost associated with the IT burden hours is estimated to be $95.35 ($59.02 ÷ 61.9%) per hour. The total annual burden hours to prepare and submit clean files is 248 hours (8 × 31). The total annual clean file labor cost per year is estimated to be $23,647 ($95.35 × 248).

¹ May 2020 National Occupational Employment and Wage Estimates United States, Occupational Employment Statistics, Bureau of Labor Statistics, U.S. Department of Labor, https://www.bls.gov/oes/current/oes_nat.htm#15-0000, last accessed July 23, 2021.

² Employer Costs for Employee Compensation by ownership (Dec. 2020), available at https://www.bls.gov/news.release/ecec.t01.htm (accessed July 23, 2021).

Submission type | Annual responses | Annual respondents | Estimated burden per respondent | Average hourly labor cost | Labor cost per respondent | Total burden hours | Total labor costs
Adding, Updating, or Deleting Records | 9,369,197 | 51 | 265 | N/A | $8,700 | 13,515 | $443,700
Clean Files | N/A | 31 | 248 | 95.35 | 762.80 | 248 | 23,647
Total |  |  | 513 |  |  | 13,763 | 467,347

Estimated Total Annual Burden Cost: There are no annual costs.

Public Comments Invited: You are asked to comment on any aspects of this information collection, including (a) whether the proposed collection of information is necessary for the proper performance of the functions of NHTSA, including whether the information will have practical utility; (b) the accuracy of NHTSA's estimate of the burden of the proposed collection of information, including the validity of the methodology and assumptions used; (c) ways to enhance the quality, utility, and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Chou-Lin Chen,
Associate Administrator for the National Center for Statistics and Analysis.

[FR Doc. 2025-15190 Filed 8-8-25; 8:45 am]

BILLING CODE 4910-59-P